DEPARTMENT OF ENERGY

Federal Energy Regulatory Commission

Combined Notice of Filings

Take notice that the Commission has received the following Natural Gas Pipeline Rate and Refund Report filings:

Filings Instituting Proceedings

Docket Numbers: RP13-411-000.

Applicants: Iroquois Gas Transmission System, L.P.

Description: 12/21/12 Negotiated Rates—Emera Energy Services Incorporated to be effective 12/21/2012.

Filed Date: 12/21/12.

Accession Number: 20121221-5090.

Comments Due: 5 p.m. ET 1/2/13.

Docket Numbers: RP13-412-000.

Applicants: Northern Natural Gas Company.

Description: 20121228 Essar Negotiated Rate to be effective 12/31/2012.

Filed Date: 12/21/12.

Accession Number: 20121221-5185.

Comments Due: 5 p.m. ET 1/2/13.

Docket Numbers: RP13-413-000.

Applicants: TWP Pipeline LLC.

Description: TWP Pipeline Cost and Revenue Study, CP09-3-000 to be effective N/A.

Filed Date: 12/21/12.

Accession Number: 20121221-5300.

Comments Due: 5 p.m. ET 1/2/13.

Docket Numbers: RP13-414-000.

Applicants: BP Energy Company,Plains Exploration & Production Company,PXP Offshore LLC.

Description: Joint Petition of BP Energy Company, Plains Exploration & Production Company, and PXP Offshore LLC for Temporary Waiver of Capacity Release Regulations and Policies, and Request for Shortened Comment Period and Expedited Treatment.

Filed Date: 12/21/12.

Accession Number: 20121221-5321.

Comments Due: 5 p.m. ET 12/28/12.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP09-427-006.

Applicants: Southern Natural Gas Company, L.L.C.

Description: Petition of Southern Natural Gas Company, L.L.C. to Amend Stipulation and Agreement and Motion for Shortened Answer Period and Expedited Action.

Filed Date: 12/21/12.

Accession Number: 20121221-5319.

Comments Due: 5 p.m. ET 12/28/2012.

Docket Numbers: RP13-54-001.

Applicants: Northern Border Pipeline Company.

Description: RP13-54-000 NAESB Compliance to be effective 12/1/2012.

Filed Date: 12/13/12.

Accession Number: 20121213-5028.

Comments Due: 5 p.m. ET 12/26/12.

Any person desiring to protest in any the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: December 26, 2012.
Nathaniel J. Davis, Sr.,
Deputy Secretary.

[FR Doc. 2012-31481 Filed 12-31-12; 8:45 am]

BILLING CODE 6717-01-P